ENVIRONMENTAL PROTECTION AGENCY

[EPA-HQ-OEI-2011-0096; FRL-9261-1]

Agency Information Collection Activities; Proposed Collection; Comment Request; Cross-Media Electronic Reporting Rule (Renewal); EPA ICR No. 2002.05, OMB Control No. 2025-0003

AGENCY: Environmental Protection Agency (EPA).

ACTION: Notice.

SUMMARY: In compliance with the Paperwork Reduction Act (PRA) (44 U.S.C. 3501 et seq.), this document announces that EPA is planning to submit a request to renew an existing approved Information Collection Request (ICR) to the Office of Management and Budget (OMB). This ICR is scheduled to expire on July 31, 2011. Before submitting the ICR to OMB for review and approval, EPA is soliciting comments on specific aspects of the proposed information collection as described below.

DATES: Comments must be submitted on or before April 4, 2011.

ADDRESSES: Submit your comments, identified by Docket ID No. EPA-HQ-OEI-2011-0096 by one of the following methods:

http://www.regulations.gov: Follow the on-line instructions for submitting comments.

E-mail: oei-docket@epa.gov.

Fax: 202-566-1753.

Mail: Office of Environmental Information Docket, Environmental Protection Agency, Mailcode: 2822T, 1200 Pennsylvania Avenue, NW., Washington, DC 20460. For hand delivery: Office of Environmental Information (OEI) Docket in the EPA Docket Center (EPA/DC), EPA West, Room 3334, 1301 Constitution Ave., NW., Washington, DC. Such deliveries are only accepted during the Docket's normal hours of operation, and special arrangements should be made for deliveries of boxed information. Please include a total of four copies.

Instructions: Direct your comments to Docket ID No. EPA-HQ-OEI-2011-0096. EPA's policy is that all comments received will be included in the public docket without change and may be made available online at http://www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Cross-Media Electronic Reporting Rule (CROMERR) ICR, Information Exchange & Services Division, Office of Environmental Information, 2823T, Environmental Protection Agency, 1200 Pennsylvania Avenue, NW., Washington, DC 20460. For questions regarding authorized programs burden and costs contact Evi Huffer, telephone number: 202-566-1697; fax number: 202-566-1685; e-mail address: huffer.evi@epa.gov or Karen Seeh, telephone number: 202-566-1175; fax number: 202-566-1685; e-mail address: Seeh.Karen@epa.gov. For questions regarding the Central Data Exchange (CDX) burden and costs contact Charles Freeman, telephone number: 202-566-1694; fax number: 202-566-1684; e-mail address: freeman.charles@epa.gov.

SUPPLEMENTARY INFORMATION:

How can I access the docket and/or submit comments?

EPA has established a public docket for this ICR under Docket ID No. EPA-HQ-OEI-2011-0096, which is available for online viewing at www.regulations.gov, or in person viewing at the Office of Environmental Information (OEI) Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the OEI Docket is 202-566-1752.

Use www.regulations.gov to obtain a copy of the draft collection of information, submit or view public comments, access the index listing of the contents of the docket, and to access those documents in the public docket that are available electronically. Once in the system, select “search,” then key in the docket ID number identified in this document.

What information is EPA particularly interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What information collection activity or ICR does this apply to?

Affected entities: Entities potentially affected by this action are direct and indirect reporters and state and local government authorized programs.

Title: Cross-Media Electronic Reporting Rule (Renewal).

ICR numbers: EPA ICR No. 2002.05, OMB Control Number 2025-0003.

ICR status: This ICR is currently scheduled to expire on July 31, 2011. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The scope of this Information Collection Request is the final electronic reporting components of CROMERR, which is designed to: Allow EPA to comply with the Government Paperwork Elimination Act of 1998; provide a uniform, technology-neutral framework for electronic reporting across all EPA programs; allow EPA programs to offer electronic reporting as they become ready for CROMERRR; and provide states with a streamlined process—together with uniform set of standards—for approval of their electronic reporting provisions for all their EPA-authorized programs. Responses to the collection of information are voluntary. In order to accommodate CBI, the information collected must be in accordance with the confidentiality regulations set forth in 40 CFR Part 2, Subpart B. Additionally, EPA will ensure that the information collection procedures comply with the Privacy Act of 1974 and the OMB Circular 108.

Burden Statement: The annual public reporting burden for facilities for this collection of information is estimated to average: about 10 minutes for an individual reporting electronically to EPA's CDX to prepare and submit the on-line subscriber agreement application and call the CDX Help Desk; 15 minutes for an individual that prepares and submits a subscriber agreement to a State/Local agency; 5 minutes for an individual that prepares and files a subscriber agreement on site at the facility under a Local Registration Authority (LRA) arrangement; and 30 minutes for each facility LRA, including the time for preparing and submitting the certification of receipt and secure storage of on-site subscriber agreements to EPA or the State/Local agency. The annual public recordkeeping burden for facilities for this collection of information is estimated to average about 30 minutes for the LRA, including time for compiling subscriber agreements from employee registrants within the LRA's firm, placing and maintaining them in secure storage. The public reporting burden in this ICR is estimated to range from 210 hours for a Local government to 330 hours for State EPA seeking to implement an electronic receiving system. This includes time for preparing and submitting the program modification application to EPA.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Respondents/Affected Entities: Facilities reporting electronically to EPA and state or local government authorized programs; and state and local government authorized programs implementing electronic.

Estimated total number of potential respondents: EPA estimates 20,391 facilities on average to register for electronic reporting to EPA or State/Local authorized program electronic document receiving systems each year, with an average total of 67,902 employee registrants each year. EPA estimates that 15 state agencies and 46 other local government jurisdictions will submit CROMERR applications for their electronic reporting programs each year.

Frequency of response: On occasion.

Estimated total average number of responses for each respondent: 1.

Estimated total annual burden hours: 48,292 hours for facilities and 14,717 hours for state and local authorized programs.

Estimated total annual costs: $5,401,250 for facilities and $4,868,889 for state and local authorized programs. This includes an estimated burden cost of $5,199,840 for facilities and $417,926 for state and local authorized programs, and an estimated cost of $201,410 for facilities and $4,450,963 for state and local authorized programs for capital investment or maintenance and operational costs.

Are there changes in the estimates from the last approval?

EPA does not expect a significant change in the ICR renewal compared to the previous ICR, as the basic requirements are the same. There is an adjustment in the labor cost estimates due to the inflation of the labor rates over the past three years. Also, EPA expects the total estimated respondent burden for state and local government authorized programs identified in the ICR currently approved by OMB, to decrease over the next three year because most authorized programs with existing electronic document receiving systems submitted CROMERR applications to EPA, in compliance with the January 13, 2010 regulatory deadline. EPA expects a further reduction in the total number of respondents based on a decrease in the number of affected facilities.

What is the next step in the process for this ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: January 26, 2011.
Connie Dwyer,
Director, Information Exchange and Services Division.

[FR Doc. 2011-2270 Filed 2-1-11; 8:45 am]

BILLING CODE 6560-50-P